DEPARTMENT OF COMMERCE

National Oceanic and Atmospheric Administration

50 CFR Part 648

[Docket No. 051128313-6029-02; I.D.111705C]

RIN 0648 AT20

Fisheries of the Northeastern United States; Atlantic Bluefish Fisheries; 2006 Atlantic Bluefish Specifications; Quota Adjustment; 2006 Research Set-aside Project

AGENCY: National Marine Fisheries Service (NMFS), National Oceanic and Atmospheric Administration (NOAA), Commerce.

ACTION: Final rule; correction.

SUMMARY: NMFS is correcting a final rule that appeared in the Federal Register of February 24, 2006. The document issued final specifications for the 2006 Atlantic bluefish fisheries. Inadvertently, Table 1 of the final rule contained incorrect individual state commercial quota allocations (after adjusting for the research set-aside quota). This document corrects that error.

DATES: Effective March 27, 2006.

FOR FURTHER INFORMATION CONTACT: Bonnie Van Pelt, Fishery Policy Analyst, (978) 281-9244, fax (978) 281-9135.

SUPPLEMENTARY INFORMATION: The final rule, including final quota specifications for the Atlantic bluefish fisheries, was published in the Federal Register on February 24, 2006 (71 FR 9471). The final rule presented a new alternative (different than the alternative published in the proposed rule) to ensure that recreational harvest limits would not be exceeded. Table 1 listed incorrect individual state commercial quota allocations in the columns entitled “2006 Commercial Quota (lb) with Research Set-Aside” and “2006 Commercial Quota (kg) with Research Set-Aside.” The amounts that appear in the row entitled “Total” remain the same. The following corrections are made:

1. On page 9473, Table 1. Commercial State-by-State Allocations for 2006 as Adjusted by the Research Set-Aside (RSA) is corrected to read as follows:

Table 1. Corrected Commercial State-by-State Allocations for 2006 as Adjusted by the RSA
States | Quota: Percent Share | 2006 Commercial Quota: (lb) | 2006 Commercial Quota: (kg) | 2006 Commercial Quota (lb): With Research Set-Aside | 2006 Commercial Quota (kg): With Research Set-Aside
ME | 0.6685 | 54,022 | 24,504 | 53,230 | 24,145
NH | 0.4145 | 33,496 | 15,194 | 33,005 | 14,971
MA | 6.7167 | 542,783 | 246,205 | 534,823 | 242,592
RI | 6.8081 | 550,169 | 249,555 | 542,101 | 245,893
CT | 1.2663 | 102,331 | 46,417 | 100,830 | 45,736
NY | 10.3851 | 839,230 | 380,672 | 826,923 | 375,086
NJ | 14.8162 | 1,197,311 | 543,097 | 1,179,753 | 535,127
DE | 1.8782 | 151,779 | 68,847 | 149,553 | 67,836
MD | 3.0018 | 242,578 | 110,033 | 239,021 | 108,418
VA | 11.8795 | 959,994 | 435,450 | 945,915 | 429,060
NC | 32.0608 | 2,590,864 | 1,175,208 | 2,552,869 | 1,157,962
SC | 0.0352 | 2,845 | 1,290 | 2,803 | 1,271
GA | 0.0095 | 768 | 348 | 756 | 343
FL | 10.0597 | 812,934 | 368,744 | 801,012 | 363,333
Total | 100.0001 | 8,081,096 | 3,665,561 | 7,962,586 | 3,611,769
¹ Metric tons and kilograms are as converted from pounds and may not necessarily add due to rounding.

The Assistant Administrator for fisheries, NOAA (AA) finds good cause pursuant to 5 U.S.C. 553(b)(B) to waive prior notice and the opportunity for public comment because it would be impracticable and contrary to the public interest. This rule corrects a calculation error in the state allocations for bluefish in the final rule published on February 24, 2006 (71 FR 9471). When the final state allocations where calculated to reflect the new transfer amount, NMFS inadvertently made an error in calculation; i.e., the table that revised the individual state quota allocations carried over a conversion factor that did not correctly account for the RSA quota based on the new proportion (recreational/commercial split). Providing for a public comment period for this rule would prevent the correction of the aforementioned final rule before it becomes effective. Publication of incorrect state quota allocations could cause some unnecessary confusion among those states whose allocation is different from the levels previously calculated. The correction provides a slightly higher allocation to each of the states.

The AA further finds pursuant to 5 U.S.C. 553(d)(3) good cause to waive the thirty (30) delayed effectiveness period for the reasons stated above. This rule corrects a calculation error in the state allocations for bluefish in the final rule published on February 24, 2006 (71 FR 9471). When the final state allocations were calculated to reflect the new transfer amount, NMFS inadvertently made an error in calculation; i.e., the table that revised the individual state quota allocations carried over a conversion factor that did not correctly account for the RSA quota based on the new proportion (recreational/commercial split). Providing for a 30-day delay in effectiveness for this rule would prevent the correction of the aforementioned final rule before it becomes effective. Publication of incorrect state quota allocations could cause some unnecessary confusion among those states whose allocation is different from the levels previously calculated.

This rule has been determined to be not significant under Executive Order 12866.

Dated: March 13, 2006.
James W. Balsiger,
Acting Deputy Assistant Administrator for Regulatory Programs, National Marine Fisheries Service.

[FR Doc. 06-2617 Filed 3-16-06; 8:45 am]

BILLING CODE 3510-22-S